AGENCY FOR INTERNATIONAL DEVELOPMENT

Office of Food for Peace; Bureau for Humanitarian Response, Announcement of Draft Guidelines for Title II Development Activity Programs and Cooperating Sponsor Results Reports and Resource Requests

Notice

Pursuant to the Agricultural Trade Development and Assistance Act of 1954 (Public Act 480, as amended), notice is hereby given that the Draft Guidelines for Title II Development Activity Programs and Cooperating Sponsor Results Reports and Resource Requests are being made available to interested parties for the required thirty (30) day comment period.

Individuals who wish to receive a copy of these draft guidelines should contact: Office of Food for Peace, Agency for International Development, RRB 7.06-120, 1300 Pennsylvania Avenue, Washington, DC 20523-0809. Individuals who have questions or comments on the draft guidelines should contact Richard Newberg at the above address or at (202) 712-1828.

The thirty-day comment period will begin on the date that this announcement is published in the Federal Register.

Dated: September 7, 2001.
William T. Oliver,
Director, Office of Food for Peace, Bureau for Humanitarian Response.

[FR Doc. 01-23063 Filed 9-13-01; 8:45 am]

BILLING CODE 6116-01-M